DEPARTMENT OF DEFENSE

Office of the Secretary

Notice of Availability of Uniform National Discharge Standards (UNDS) for Vessels of the Armed Forces-Phase III Batch One

AGENCY: Department of Defense (DoD).

ACTION: Notice of availability.

SUMMARY: DoD has developed internal regulations on the design, construction, installation, and use of marine pollution control devices (MCPDs) to meet performance standards for 11 discharges incidental to the normal operation of a vessel of the Armed Forces into the navigable waters of the United States, the territorial seas, and the contiguous zone, and is making them publicly available.

FOR FURTHER INFORMATION CONTACT: Mike Pletke; Chief of Naval Operations (N45), 2000 Navy Pentagon (Rm. 2D253), Washington, DC 20350-2000; (703) 695-5184; mike.pletke@navy.mil.

SUPPLEMENTARY INFORMATION: Section 312 of the Clean Water Act (CWA), as amended by Section 325 of the National Defense Authorization Act of 1996, requires the Environmental Protection Agency (EPA) and DoD to develop Uniform National Discharge Standards (UNDS) to control certain discharges incidental to the normal operation of a vessel of the Armed Forces. The EPA and DoD have already issued required joint rules (64 FR 25126 (May 10, 1999) and 82 FR 3173 (January 10, 2017), 40 CFR part 1700). This notice announces that DoD is also issuing a DoD-only internal regulation as part of this requirement. Although issued by DoD alone, the regulation will apply (by agreement with the Department of Homeland Security) not only to DoD but also to the U.S. Coast Guard (at all times, including when it is a Service in the Department of Homeland Security).

Section 312(n)(4) of the CWA requires DoD, in consultation with EPA and the Secretary of the Department in which the U.S. Coast Guard is operating, to promulgate regulations governing the design, construction, installation, and use of MPCDs necessary to meet the discharge performance standards established in the EPA-DoD joint rules.

These regulations are issued under the authority of the Secretary as an internal regulation, DoD Manual 4715.06, Volume 4, “Regulations on Vessels Owned or Operated by the Department of Defense: Discharges Incidental to Normal Operations,” which can be found at: https://www.esd.whs.mil/Directives/issuances/dodm/.

There is no notice and comment requirement for these regulations because they are internal to the department and to the Coast Guard and otherwise exempt by 5 U.S.C. 553(a)(1) and (2). Furthermore, EPA and DoD provided for notice and comment during the promulgation of the joint EPA-DoD regulations, as required by the CWA.

Because EPA and DoD determined that these regulations, once finalized, would have federalism implications, they had several rounds of consultations with state and local governments during the promulgation of the joint EPA-DoD regulations, as described in the final rule at 82 FR 3181, January 10, 2017.

Dated: June 28, 2019.
Aaron T. Siegel,
Alternate OSD Federal Register Liaison Officer, Department of Defense.

[FR Doc. 2019-14211 Filed 7-2-19; 8:45 am]

BILLING CODE 5001-06-P